ENVIRONMENTAL PROTECTION AGENCY

[FRL9834-8]

Underground Injection Control Program; Hazardous Waste Injection Restrictions; Petition for Exemption—Class I Hazardous Waste Injection; Blanchard Refining Company LLC Galveston Bay Refinery, Texas City, Texas (Formerly BP Products North America Inc.—Texas City Business Unit)

AGENCY: Environmental Protection Agency (EPA).

ACTION: Notice of a final decision on a no migration petition reissuance.

SUMMARY: Notice is hereby given that a reissuance of an exemption to the land disposal Restrictions, under the 1984 Hazardous and Solid Waste Amendments to the Resource Conservation and Recovery Act, has been granted to Blanchard Refining Company LLC (Blanchard) Galveston Bay Refinery for three existing Class I injection wells located at Texas City, Texas. The company has adequately demonstrated to the satisfaction of the Environmental Protection Agency by the petition reissuance application and supporting documentation that, to a reasonable degree of certainty, there will be no migration of hazardous constituents from the injection zone for as long as the waste remains hazardous. This final decision allows the continued underground injection by Blanchard of the specific restricted hazardous wastes identified in this exemption into Class I hazardous waste injection wells Nos. WDW-80, 127, and 128 at the Galveston Bay Refinery facility, until December 31, 2020, unless EPA moves to terminate this exemption. Additional conditions included in this final decision may be reviewed by contacting the Region 6 Ground Water/UIC Section. A public comment period for the proposed approval of this reissuance was May 7, 2013, through June 24, 2013, and no comments were received. This decision constitutes final Agency action and there is no Administrative appeal. This decision may be reviewed/appealed in compliance with the Administrative Procedure Act.

DATES: This action is effective as of July 2, 2013.

ADDRESSES: Copies of the petition reissuance and all pertinent information relating thereto are on file at the following location: Environmental Protection Agency, Region 6, Source Water Protection Branch (6WQ-S), 1445 Ross Avenue, Dallas, Texas 75202-2733.

FOR FURTHER INFORMATION CONTACT: Philip Dellinger, Chief Ground Water/UIC Section, EPA—Region 6, telephone (214) 665-7150.

Dated: July 2, 2013.
David F. Garcia,
Deputy Director, Water Quality Protection Division.

[FR Doc. 2013-17147 Filed 7-16-13; 8:45 am]

BILLING CODE 6560-50-P